DEPARTMENT OF THE INTERIOR

Office of Surface Mining Reclamation and Enforcement

30 CFR Parts 816 and 817

RIN 1029-AB40

Surface Coal Mining and Reclamation Operations; Technical Amendment; Permanent and Temporary Impoundments

AGENCY: Office of Surface Mining Reclamation and Enforcement, Interior.

ACTION: Final rule; technical amendment.

SUMMARY: We, the Office of Surface Mining Reclamation and Enforcement (OSM), are making technical revisions to our regulations to correct errors in cross references and to change an address.

EFFECTIVE DATE: March 12, 2001.

FOR FURTHER INFORMATION CONTACT: Andy DeVito, Office of Surface Mining Reclamation and Enforcement, Room 117, South Interior Building, 1951 Constitution Avenue, NW., Washington, DC 20240; Telephone (202) 208-2701. E-Mail: adevito@osmre.gov.

SUPPLEMENTARY INFORMATION:

I. Background and Discussion of Final Rule

II. Procedural Matters

I. Background and Discussion of Final Rule

We published a final rule (RIN 1029-AB40) on October 20, 1994 at 59 FR 53022. The rule revised regulations in 30 CFR parts 816 and 817. In both 30 CFR 816.49 and 817.49, OSM redesignated paragraphs (a)(8), (a)(9), and (a)(10) as (a)(9), (a)(10), and (a)(11) respectively. Redesignated paragraph (a)(9) still contains cross references to paragraphs (a)(8), (a)(8)(i) and (a)(8)(ii). Those cross references should have been revised to read (a)(9), (a)(9)(i) and (a)(9)(ii) when paragraph (a)(8) was redesignated as paragraph (a)(9). Similarly, redesignated paragraph (a)(11) contains cross references to paragraphs (a)(10)(i) and (a)(10)(iv). Those cross references should have been revised to read (a)(11)(i) and (a)(11)(iv) when paragraph (a)(10) was redesignated as paragraph (a)(11). In addition, both 30 CFR 816.49(c)(2) and 817.49(c)(2) contains a cross reference to (a)(8)(i) which, under the redesignation, should have been revised to (a)(9)(i). This rule corrects those errors. Finally, 30 CFR 816.49(a)(1) and 817.49(a)(1) contains references to OSM's Administrative Record Room which was located at 800 North Capitol Street, NW., Washington, DC when the rule was published. Since publication of the rule, we have moved the Administrative Record Room to 1951 Constitution Avenue, NW., Washington, DC. This rule revise paragraphs 816.49(a)(1) and 817.49(a)(1) to indicate the new address.

II. Procedural Matters

Administrative Procedure Act

This final rule has been issued without prior public notice or opportunity for public comment. The Administrative Procedure Act (APA) (5 U.S.C. 553) provides an exception to the notice and comment procedures when an agency finds that there is good cause for dispensing with such procedures on the basis that they are impracticable, unnecessary or contrary to the public interest. OSM has determined that under 5 U.S.C. 553(b)(3)(B) good cause exists for dispensing with the notice of proposed rulemaking and public comment procedures for this rule. Specifically, this rule merely corrects references contained in the regulations and does not impose any new OSM regulatory requirements. These same reasons also provide OSM with good cause under 5 U.S.C. 553(d)(3) of the APA to have the regulation become effective on a date that is less than 30 days after the date of publication in the Federal Register.

Executive Order 12866

This rule is not a significant rule and is not subject to review by the Office of Management and Budget under Executive Order 12866.

(1) This rule will not have an effect of $100 million or more on the economy. It will not adversely affect in a material way the economy, productivity, competition, jobs, the environment, public health or safety, or State, local, or tribal governments or communities. As previously stated, this rule corrects references contained in the regulations and does not impose any new OSM regulatory requirements.

(2) This rule will not create a serious inconsistency or otherwise interfere with an action taken or planned by another agency for the reasons stated above.

(3) This rule does not alter the budgetary effects of entitlements, grants, user fees, or loan programs or the rights or obligations of their recipients.

(4) This rule does not raise novel legal or policy issues for the reasons stated above.

Regulatory Flexibility Act

The Department of the Interior certifies that this rule will not have a significant economic impact on a substantial number of small entities under the Regulatory Flexibility Act (5 U.S.C. 601 et seq.). As previously stated, the rule merely corrects references contained in the regulations and does not impose any new OSM regulatory requirements.

Unfunded Mandates Reform Act

For purposes of compliance with the Unfunded Mandates Reform Act of 1995, this rule does not impose any obligations that individually or cumulatively would require an aggregate expenditure of $100 million or more by State, local, and Tribal governments and the private sector in any given year.

Federal Paperwork Reduction Act

This rule does not contain collections of information which require approval by the Office of Management and Budget under 44 U.S.C. 3501 et seq.

National Environmental Policy Act

This rule has been reviewed by OSM and it has been determined to be categorically excluded from the requirement to prepare an environmental document under the National Environmental Policy Act of 1969. This determination was made in accordance with the Departmental Manual (516 DM 2, Appendix 1.10).

Executive Order 12988 on Civil Justice Reform

The Department of the Interior has determined that this rule meets the requirements of sections (3)(a) and 3(b)(2) of Executive Order 12988, Civil Justice Reform (61 FR 4729).

Effect in Federal Program States and on Indian Lands

The rule will apply through cross-referencing to the following Federal program states: California, Georgia, Idaho, Massachusetts, Michigan, North Carolina, Oregon, Rhode Island, South Dakota, Tennessee and Washington. The Federal programs for these States appear at 30 CFR Parts 905, 910, 912, 921, 922, 933, 937, 939, 941, 942 and 947, respectively. The rule also applies through cross-referencing to Indian lands under the Federal program for Indian lands as provided in 30 CFR part 750.

Effect on State Programs

Following promulgation of the final rule, OSM will evaluate State programs approved under section 503 of SMCRA to determine any changes in those programs that will be necessary. When OSM determines that a particular State program provision should be amended in order to be made no less stringent than the revised Federal regulations, the particular States will be notified in accordance with the provisions of 30 CFR 732.17.

List of Subjects

30 CFR Part 816

Environmental protection, Reporting and recordkeeping requirements, Surface mining.

30 CFR Part 817

Environmental protection, Reporting and recordkeeping requirements, Underground mining.

Dated: February 23, 2001.
Piet deWitt,
Acting Assistant Secretary, Land and Minerals Management.

For the reasons given in the preamble, 30 CFR Parts 816 and 817 are amended as set forth below.

PART 816—PERMANENT PROGRAM PERFORMANCE STANDARDS—SURFACE MINING ACTIVITIES

1. The authority citation for Part 816 is revised to read as follows:

Authority: 30 U.S.C. 1201 et seq.; and sec. 115 of Pub. L. 98-146.

§ 816.49 [Amended]

2. Amend § 816.49 as follows:

a. In paragraph (a)(1), the words “Room 660, 800 North Capitol Street” are revised to read “1951 Constitution Avenue, NW.”

b. In paragraph (a)(9), the references to “(a)(8)(i)” and “(a)(8)(ii)” are revised to read “(a)(9)(i)” and “(a)(9)(ii),” respectively.

c. In paragraph (a)(9)(ii), the reference to “(a)(8)” is revised to read “(a)(9).”

d. In paragraph (a)(11), the references to “(a)(10)(i)” and “(a)(10)(iv)” are revised to read “(a)(11)(i)” and “(a)(11)(iv),” respectively.

e. In paragraph (a)(11)(ii), the references to “(a)(10)(i)” and “(a)(10)(iv)” are revised to read “(a)(11)(i)” and “(a)(11)(iv),” respectively.

f. In paragraph (c)(2), the reference to “(a)(8)(i)” is revised to read “(a)(9)(i).”

PART 817—PERMANENT PROGRAM PERFORMANCE STANDARDS—UNDERGROUND MINING ACTIVITIES

4. The authority citation for Part 817 is revised to read as follows:

Authority: 30 U.S.C. 1201 et seq.

§ 817.49 [Amended]

5. Amend § 817.49 as follows:

a. In paragraph (a)(1), the words “Room 660, 800 North Capitol Street” are revised to read “1951 Constitution Avenue, NW.”

b. In paragraph (a)(9), the references to “(a)(8)(i)” and “(a)(8)(ii)” are revised to read “(a)(9)(i)” and “(a)(9)(ii),” respectively.

c. In paragraph (a)(9)(ii), the reference to “(a)(8)” is revised to read “(a)(9).”

d. In paragraph (a)(11), the references to “(a)(10)(i)” and “(a)(10)(iv)” are revised to read “(a)(11)(i)” and “(a)(11)(iv),” respectively.

e. In paragraph (a)(11)(ii), the references to “(a)(10)(i)” and “(a)(10)(iv)” are revised to read “(a)(11)(i)” and “(a)(11)(iv),” respectively.

f. In paragraph (c)(2), the reference to “(a)(8)(i)” is revised to read “(a)(9)(i).”

[FR Doc. 01-6105 Filed 3-9-01; 8:45 am]

BILLING CODE 4310-05-P